DEPARTMENT OF DEFENSE

Department of the Army

[Docket ID: USA-2024-HQ-0003]

Submission for OMB Review; Comment Request

AGENCY: U.S. Army Corps of Engineers (USACE), Department of the Army, Department of Defense (DoD).

ACTION: 30-Day information collection notice.

SUMMARY: The DoD has submitted to the Office of Management and Budget (OMB) for clearance the following proposal for collection of information under the provisions of the Paperwork Reduction Act.

DATES: Consideration will be given to all comments received by May 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Flood and Coastal Storm Damage Surveys; OMB Control Number 0710-0017.

Type of Request: Extension.

Number of Respondents: 3,000.

Responses per Respondent: 1.

Annual Responses: 3,000.

Average Burden per Response: 23 minutes.

Annual Burden Hours: 1,150.

Needs and Uses: Information collection via the survey instruments is necessary to formulate and evaluate alternative water resources development plans in accordance with the Principles and Guidelines for Water Related Land Resources Implementation Studies (PR&G), promulgated by the U.S. Water Resources Council, 1983, which specifically identifies personal interviews as a method of gathering primary flood damage data. The PR&G were most recently updated in 2013 at the direction of Section 2031 of the Water Resources Development Act of 2007 (Pub. L. 110-114). The information collection is also needed to determine the effectiveness and evaluate the impacts of Army Corps of Engineers projects (Pub. L. 74-738); and, in the case of flood damage mitigation, obtain information on flood damages incurred, whether or not a project is being considered or exists (Pub. L. 74-738). The information to be gathered under this collection also supports the mandate from the Flood Control Act of 1936 (Pub. L. 74-734), which established the criterion for Federal action that “the benefits, to whomsoever they may accrue are in excess of the estimated costs.” The Engineer Regulation (ER) 1105-2-100, Planning Guidance Notebook (April, 2000) defines benefits for the project under consideration, with flood damages avoided comprising the primary category of benefits used in project justification. Secondary benefits include reductions in emergency costs, unrecoverable and non-transferrable income losses, clean-up and other costs associated with flooding.

The U.S. Army Corps of Engineers (USACE) provides flood risk management structural and nonstructural mitigation, planning and tech services to communities, residents, and businesses at risk of flooding. Flood damage surveys are administered by USACE and its contractors to determine the impacts and potential impacts of flooding and to determine how communities, residents, and businesses respond to flooding. The data are used for estimating damage for factors such as depth of flooding, construction types, and different occupancies of use, which influences project formulation and budgeting. Damage estimation models are then calculated and used to estimate the cost of flooding and to evaluate the benefits of alternative flood mitigation plans, which are critical to determining the feasibility of flood risk management projects. Results of surveys will help communities to better determine and communicate their flood risks. The models are also used for programmatic evaluation of the Army Corps of Engineers' National Flood Risk Management Program.

Affected Public: Business or other for-profit; individuals or households; not-for-profit institutions; State, local, or Tribal government.

Frequency: On occasion.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: April 19, 2024.
Aaron T. Siegel,
Alternate OSD Federal Register Liaison Officer, Department of Defense.

[FR Doc. 2024-08822 Filed 4-29-24; 8:45 am]

BILLING CODE 6001-FR-P